DEPARTMENT OF TRANSPORTATION

National Highway Traffic Safety Administration

[Docket No. NHTSA 2006-25981; Notice 2]

Michelin North America, Inc., Grant of Petition for Decision of Inconsequential Noncompliance

Michelin North America, Inc. (Michelin) has determined that certain tires it imported in 2005 and 2006 do not comply with S6.5(d) of 49 CFR 571.119, Federal Motor Vehicle Safety Standard (FMVSS) No. 119, “New pneumatic tires for vehicles other than passenger cars.” Pursuant to 49 U.S.C. 30118(d) and 30120(h), Michelin has petitioned for a determination that this noncompliance is inconsequential to motor vehicle safety and has filed an appropriate report pursuant to 49 CFR Part 573, “Defect and Noncompliance Reports.” Notice of receipt of a petition was published, with a 30-day comment period, on October 12, 2006, in the Federal Register (71 FR 60230). NHTSA received no comments.

Affected are a total of approximately 6,189 11R24.5 Load Range H BFGoodrich DR444 tires produced between November 20, 2005 and July 22, 2006. S6.5(d) of FMVSS No. 119 requires that each tire shall be marked on each sidewall with “[t]he maximum load rating and corresponding inflation pressure of the tire * * *.” The sidewall labeling on the subject tires incorrectly states the maximum dual load carrying capacity. They are incorrectly marked “Max load dual 3075 kg (6780 lbs) at 830 kPa (120 psi).” They should have been marked “Max load dual 3000 kg (6610 lbs) at 830 kPa (120 psi).” The tires are correctly marked for the maximum single load carrying capacity. Michelin has corrected the problem that caused these errors so that they will not be repeated in future production.

Michelin believes that the noncompliance is inconsequential to motor vehicle safety and that no corrective action is warranted. Michelin states,

When both single and dual loads are marked on the tire (as is the case here), FMVSS No. 119 requires that performance compliance testing be done based on the single (higher, more punishing) tire load. Therefore, an incorrect maximum dual load marking is inconsequential and [the] tire meets all FMVSS No. 119 minimum performance requirements.

Michelin cites NHTSA's grant of a previous inconsequential noncompliance petition it submitted for a similar maximum dual load noncompliance (69 FR 62512; October 26, 2004; Docket No. NHTSA-2004-18973, Notice 2), where NHTSA stated,

The agency also agrees that safety will not be compromised for the tires marked with the incorrect “max load dual” since the more severe “max load single” load is marked correctly. In addition, these tires meet or exceed all of the performance requirements of FMVSS No. 119, and all other informational markings as required by FMVSS No. 119 are present.

Michelin says that the tires meet or exceed all other FMVSS No. 119 requirements.

The agency agrees with Michelin that the noncompliance is inconsequential to safety. As Michelin points out, when both single and dual loads are marked on the tire, as is the case here, FMVSS No. 119 requires that performance compliance testing be done based on the single higher and more severe tire load, which is correctly labeled.

Industry standardizes its tire sizes in the various yearly standards publications. Due to the demanding environment in which a dual tire is used, industry imposes a safety factor for load whenever a tire is used in a dual application. The safety factor may vary within a small range from tire to tire, and the values are published in one of the standard publications allowed in FMVSS No. 119. In this case, Michelin apparently used the Tire & Rim Association (T&R) Yearbook for 2006, which states that for the 11R24.5 radial truck tire, the max rated load and pressure values are as follows: Max single load 3250 kg (7160 lbs) @ 830 kPa (120 psi); Max dual load 3000 kg (6610 lbs) @ 830 kPa (120 psi). The safety factor here is 92.3%.

The subject noncompliant tires were mismarked with a dual load of 3075 kg (6780 lbs) @ 830 kPa (120 psi). The safety factor for the mismarked tire is therefore reduced to 94.7%. (The safety factor as used here is the ratio between the max rated dual load and the max rated single load expressed as a percentage. An increase in this percentage indicates a reduction in the margin of safety. In this case, the mismarked tires can be loaded to 94.7% of the single load instead of the intended dual load of 92.3% of the single load.)

A review of the T&R Yearbook for 2006 for this and similar sized and load rated radial truck tires reveals that the safety factors vary from 90.8% to 94.9%.¹ Since the Michelin mismarking keeps the safety factor within the range established for similar radial truck tires, the noncompliance has minimal safety impact even if the consumer loads the vehicle according to the mismarked tire labeling.

¹ See T&R Yearbook for 2006, pages 3-16, Radial Ply tires for Trucks, Busses and Trailers Used in Normal Highway Service, Table TTB-3R.

In addition, the tires are certified to meet all of the other performance and labeling requirements of FMVSS No. 119.

In consideration of the foregoing, NHTSA has decided that the petitioner has met its burden of persuasion that the noncompliance described is inconsequential to motor vehicle safety. Accordingly, Michelin's petition is granted and the petitioner is exempted from the obligation of providing notification of, and a remedy for, the noncompliance.

Authority: (49 U.S.C. 30118, 30120; delegations of authority at CFR 1.50 and 501.8)

Issued on: December 18, 2006.
Daniel C. Smith,
Associate Administrator for Enforcement.

[FR Doc. E6-21989 Filed 12-21-06; 8:45 am]

BILLING CODE 4910-59-P